NUCLEAR REGULATORY COMMISSION

[Docket No. 50-309, License No. DPR-36]

Maine Yankee Atomic Power Company; Notice of Release of Land from the Jurisdiction of Maine Yankee Atomic Power Company's Facility Operating License No. DPR-36

On March 15, 2004, as supplemented by letters on September 2, 2004, and May 16, 2005, Maine Yankee Atomic Power Company (Maine Yankee) submitted a request to amend its license to release the remaining land under License No. DPR-36 with the exception of the land where the Independent Spent Fuel Storage Installation (ISFSI) is located, and a 3.17 acre parcel of land adjacent to the ISFSI. Notification of the amendment request was published in the Federal Register on May 5, 2004 (Vol. 69, No. 101, Page 69769).

The U.S. Nuclear Regulatory Commission (NRC) staff reviewed the Final Status Survey Report (FSSR) and concludes that: (i) Dismantlement and decontamination activities were performed in accordance with the approved License Termination Plan (LTP), and (ii) Maine Yankee's FSSR Supplements 1-10A demonstrate that the land to be released from Facility Operating License No. DPR-36, meets the radiological criteria for unrestricted use, as defined by 10 CFR 20.1402, by meeting site release criteria of 10 millirem (Total Effective Dose Equivalent (TEDE) per year over background (all pathways) and 4 millirem (as distinguishable from background) TEDE per year for groundwater sources of drinking water in accordance with the approved LTP. Therefore, NRC is releasing all land from the jurisdiction of license DPR-36 except the land where the ISFSI is located, and a 3.17 acre parcel of land adjacent to the ISFSI.

For further details with respect to this action, see the license amendment request dated March 15, 2004, as supplemented by letters dated September 2, 2004, and May 16, 2005, and the Environmental Assessment dated February 12, 2003, available for public inspection at the Commission's Public Document Room (PDR), located at One White Flint North, Public File Area O1 F21, 11555 Rockville Pike (first floor), Rockville, Maryland. Publicly available records will be accessible electronically from the Agency-wide Documents Access and Management System's (ADAMS) Public Electronic Reading Room on the Internet at the NRC Web site, http://www.nrc.gov/reading-rm/adams.html (ADAMS Accession Nos. ML040990045, ML042600417, ML051440411, and ML030340122). Persons who do not have access to ADAMS or who encounter problems in accessing the documents located in ADAMS, should contact the NRC PDR Reference staff by telephone at 1-800-397-4209, 301-415-4737 or by e-mail to pdr@nrc.gov.

Dated at Rockville, Maryland this 30th day of September, 2005.
For The Nuclear Regulatory Commission.
Daniel M. Gillen,
Deputy Director, Decommissioning Directorate, Division of Waste Management and Environmental Protection, Office of Nuclear Material Safety and Safeguards.

[FR Doc. E5-5527 Filed 10-6-05; 8:45 am]

BILLING CODE 7590-01-P